DEPARTMENT OF TRANSPORTATION

Federal Motor Carrier Safety Administration

[Docket No. FMCSA-2024-0216]

Agency Information Collection Activities; Renewal of an Approved Information Collection; Waiver and Exemption Requirements

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to renew the ICR titled “Waiver and Exemption Requirements”. The ICR estimates the burden applicants incur to comply with the reporting tasks required for requesting waivers and exemptions.

DATES: Comments on this notice must be received on or before February 4, 2025.

ADDRESSES: You may submit comments identified by Docket Number FMCSA-2024-0216 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Bernadette Walker, Driver and Carrier Operations Division, DOT, FMCSA, 1200 New Jersey Avenue SE, Washington, DC 20590-0001; 202-385-2415; Bernadette.walker@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0216), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0216/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

In 1998, the Federal Highway Administration (FHWA), the predecessor agency of FMCSA, adopted 49 CFR part 381 as an interim final rule (IFR), establishing procedures for applying for waivers, exemptions, and pilot programs (63 FR 67600, December 8, 1998). Section 4007 of the Transportation Equity Act for the 21st Century (TEA-21) amended 49 U.S.C. 31315 and 31136(e) to provide authority to the Secretary of Transportation to grant waivers and exemptions from motor carrier safety regulations. Section 4007 of TEA-21 requires that the terms and conditions for all waivers and exemptions likely achieve a level of safety equivalent to or greater than what would be achieved by complying with the safety regulations. In 2004, FMCSA adopted its IFR as final at 49 CFR part 381, consistent with section 4007 of TEA-21 (69 FR 51589, August 20, 2004). The final rule also established procedures that govern how FMCSA reviews, grants, or denies requests for waivers and applications for exemptions. The final rule included requirements for publishing notice of exemption applications in the Federal Register to afford the public an opportunity for comment. There is no statutory requirement to publish Federal Register notices concerning waiver applications.

The ICR estimates the burden an individual, motor carrier, State, or State Driver's Licensing Agency (SDLA) incurs to comply with the reporting tasks required for requesting waivers and exemptions in 49 CFR part 381. The current burden estimate associated with this information collection, approved by OMB on May 23, 2022, is 97 hours. Through this ICR renewal, the Agency requests an increase in the burden hours from 97 hours to 119 hours. The increase is the result of the increase in estimated waiver and exemption applications the Agency expects to receive in the next three years.

Title: Waiver and Exemption Requirements.

OMB Control Number: 2126-0076.

Type of Request: Renewal, of a currently approved ICR.

Respondents: Individuals and motor carriers.

Estimated Number of Respondents: 447 per year.

Estimated Time per Response: 5 minutes to 2 hours.

Expiration Date: May 31, 2025.

Frequency of Response: On occasion (respondents are not required to submit request for waivers or exemptions).

Estimated Total Annual Burden: 119 hours.

Definitions: N/A.

Public Comments Invited: You are asked to comment on any aspect of this information collection, including: (1) whether the proposed collection is necessary for the performance of FMCSA's functions; (2) the accuracy of the estimated burden; (3) ways for the FMCSA to enhance the quality, usefulness, and clarity of the collected information; and (4) ways that the burden could be minimized without reducing the quality of the collected information.

The Agency will summarize or include your comments in the request for OMB's clearance of this information collection.

Issued under the authority of 49 CFR 1.87.
Thomas P. Keane,
Associate Administrator, Office of Research and Registration.

[FR Doc. 2024-28698 Filed 12-5-24; 8:45 am]

BILLING CODE 4910-EX-P